DEPARTMENT OF COMMERCE

International Trade Administration

[A-588-861, A-580-850, A-570-879]

Polyvinyl Alcohol From Japan, the Republic of Korea and the People's Republic of China: Continuation of Antidumping Duty Orders on Japan and the People's Republic of China, Revocation of the Antidumping Order on the Republic of Korea

AGENCY: Enforcement and Compliance, International Trade Administration, Department of Commerce.

SUMMARY: As a result of the determinations by the Department of Commerce (the Department) and the International Trade Commission (ITC) in their five year (sunset) reviews that revocation of the antidumping duty (AD) orders on polyvinyl alcohol (PVA) from Japan and the People's Republic of China (PRC) would likely lead to a continuation or recurrence of dumping and material injury to an industry in the United States, the Department is publishing a notice of continuation of the AD orders on PVA from Japan and the PRC. In addition, as a result of the ITC's determination that revocation of the AD order on PVA from the Republic of Korea (Korea) is not likely to lead to continuation or recurrence of material injury to an industry in the United States, the Department is revoking the AD order on PVA from Korea.

DATES: Effective Date: Korea Revocation: April 13, 2014; Japan and PRC Continuation: May 27, 2015.

FOR FURTHER INFORMATION CONTACT: Alice Maldonado, AD/CVD Operations, Office II, Enforcement and Compliance, International Trade Administration, U.S. Department of Commerce, 14th Street and Constitution Avenue NW., Washington, DC 20230; telephone: (202) 482-4682.

SUPPLEMENTARY INFORMATION:

Background

On July 2, 2003, the Department published the AD order on PVA from Japan, and on October 1, 2003, the Department published the AD orders on PVA from Korea and the PRC.¹

¹ See Antidumping Duty Order: Polyvinyl Alcohol from Japan, 68 FR 39518 (July 2, 2003); Antidumping Duty Order: Polyvinyl Alcohol from the Republic of Korea, 68 FR 56621 (October 1, 2003); Antidumping Duty Order: Polyvinyl Alcohol from the People's Republic of China, 68 FR 56620 (October 1, 2003) and corresponding correction, Antidumping Duty Order: Polyvinyl Alcohol From the People's Republic of China, 68 FR 58169 (October 8, 2003).

On March 3, 2014, the Department initiated ² and the ITC instituted ³ five-year (“sunset”) reviews of the AD orders on PVA from Japan, Korea, and the PRC pursuant to section 751(c) of the Tariff Act of 1930, as amended (the Act). As a result of its reviews, the Department determined that revocation of the AD orders on PVA from Japan, Korea, and the PRC would likely lead to a continuation or recurrence of dumping, and notified the ITC of the magnitude of the margins of dumping likely to prevail were the orders revoked.⁴

² See Initiation of Five-Year (“Sunset”) Reviews, 79 FR 11762 (March 3, 2014) (Notice of Initiation).

³ See Polyvinyl Alcohol From China, Japan, and Korea; Institution of Five-Year Reviews Concerning the Antidumping Duty Orders on China, Japan, and Korea, 79 FR 11821 (March 3, 2014).

⁴ See Polyvinyl Alcohol From Japan, the Republic of Korea, and the People's Republic of China: Final Results of the Expedited Sunset Reviews of the Antidumping Duty Orders, 79 FR 38278 (July 7, 2014).

On May 18, 2015, the ITC published its determinations, pursuant to sections 751(c) and 752(a) of the Act, that revocation of the AD orders on PVA from Japan and the PRC would likely lead to a continuation or recurrence of material injury to an industry in the United States within a reasonably foreseeable time, but that revocation of the AD order on PVA from Korea would not be likely to lead to the continuation or recurrence of material injury within a reasonably foreseeable time.⁵

⁵ See Polyvinyl Alcohol from China, Japan, and Korea; Determinations, 80 FR 28300 (May 18, 2015).

Scope of the Orders

The merchandise covered by these orders is PVA. This product consists of all PVA hydrolyzed in excess of 80 percent, whether or not mixed or diluted with commercial levels of defoamer or boric acid, except as noted below.

The following products are specifically excluded from the scope of these orders:

(1) PVA in fiber form.

(2) PVA with hydrolysis less than 83 mole percent and certified not for use in the production of textiles.

(3) PVA with hydrolysis greater than 85 percent and viscosity greater than or equal to 90 cps.

(4) PVA with a hydrolysis greater than 85 percent, viscosity greater than or equal to 80 cps but less than 90 cps, certified for use in an ink jet application.

(5) PVA for use in the manufacture of an excipient or as an excipient in the manufacture of film coating systems which are components of a drug or dietary supplement, and accompanied by an end-use certification.

(6) PVA covalently bonded with cationic monomer uniformly present on all polymer chains in a concentration equal to or greater than one mole percent.

(7) PVA covalently bonded with carboxylic acid uniformly present on all polymer chains in a concentration equal to or greater than two mole percent, certified for use in a paper application.

(8) PVA covalently bonded with thiol uniformly present on all polymer chains, certified for use in emulsion polymerization of non-vinyl acetic material.

(9) PVA covalently bonded with paraffin uniformly present on all polymer chains in a concentration equal to or greater than one mole percent.

(10) PVA covalently bonded with silan uniformly present on all polymer chains certified for use in paper coating applications.

(11) PVA covalently bonded with sulfonic acid uniformly present on all polymer chains in a concentration level equal to or greater than one mole percent.

(12) PVA covalently bonded with acetoacetylate uniformly present on all polymer chains in a concentration level equal to or greater than one mole percent.

(13) PVA covalently bonded with polyethylene oxide uniformly present on all polymer chains in a concentration level equal to or greater than one mole percent.

(14) PVA covalently bonded with quaternary amine uniformly present on all polymer chains in a concentration level equal to or greater than one mole percent.

(15) PVA covalently bonded with diacetoneacrylamide uniformly present on all polymer chains in a concentration level greater than three mole percent, certified for use in a paper application.

The merchandise subject to these orders is currently classifiable under subheading 3905.30.00 of the Harmonized Tariff Schedule of the United States (HTSUS). Although the HTSUS subheading is provided for convenience and customs purposes, the written description of the scope of these orders is dispositive.

Continuation of the AD Orders on PVA From Japan and the PRC

As a result of the determinations by the Department and the ITC that revocation of the AD orders on PVA from Japan and the PRC would likely lead to a continuation or recurrence of dumping, and of material injury to an industry in the United States, pursuant to section 751(d)(2) of the Act, the Department hereby orders the continuation of the AD orders on PVA from Japan and the PRC. U.S. Customs and Border Protection (CBP) will continue to collect AD cash deposits at the rates in effect at the time of entry for all imports of subject merchandise. The effective date of the continuation of the orders will be the date of publication in the Federal Register of this notice of continuation. Pursuant to section 751(c)(2) of the Act, the Department intends to initiate the next five-year review of these orders not later than 30 days prior to the fifth anniversary of the effective date of continuation.

Revocation of the AD Order on PVA From Korea

As a result of the determination by the ITC that revocation of the AD order on PVA from Korea would not be likely to lead to continuation or recurrence of material injury to an industry in the United States, pursuant to section 751(d)(2) of the Act, the Department is revoking the AD order on PVA from Korea. Pursuant to section 751(d)(2) of the Act and 19 CFR 351.222(i)(2)(i), the effective date of revocation is April 13, 2014 (i.e., the fifth anniversary of the date of publication in the Federal Register of the previous continuation of these orders).⁶

⁶ See Polyvinyl Alcohol from Japan, the Republic of Korea and the People's Republic of China: Continuation of Antidumping Duty Orders, 74 FR 16834 (April 13, 2009). See, e.g., Carbon and Certain Alloy Steel Wire Rod From Ukraine: Revocation of Antidumping Duty Order, 79 FR 38009, 38010 (July 3, 2014).

Cash Deposits and Assessment of Duties for PVA From Korea

The Department will notify CBP, 15 days after publication of this notice, to terminate the suspension of liquidation and to discontinue the collection of cash deposits on entries of the subject merchandise from Korea, entered or withdrawn from warehouse, on or after April 13, 2014. The Department will further instruct CBP to refund with interest all cash deposits on entries made on or after April 13, 2014. Entries of subject merchandise prior to the effective date of revocation will continue to be subject to suspension of liquidation and AD deposit requirements and assessments. The Department will complete any pending or requested administrative reviews of this order covering entries prior to April 13, 2014.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

These five-year (sunset) reviews and notice are in accordance with sections 751(c) and (d)(2), and 777(i) the Act, and 19 CFR 351.218(f)(4).

Dated: May 19, 2015.
Ronald K. Lorentzen,
Acting Assistant Secretary for Enforcement and Compliance.

[FR Doc. 2015-12788 Filed 5-26-15; 8:45 am]

BILLING CODE 3510-DS-P